DEPARTMENT OF JUSTICE

Notice of Lodging of Proposed Consent Decree Under the Clean Water Act

On December 10, 2024, the Department of Justice lodged a proposed consent decree with the United States District Court for the Southern District of Illinois in the lawsuit entitled United States and State of Illinois v. City of Cahokia Heights, Civil Action No. 24-2591.

The United States and State of Illinois filed a complaint against the City of Cahokia Heights (the “City'). The complaint alleges that the City has discharged sewage from its sewage collection system into the local waterways without a permit, in violation of the Clean Water Act (“CWA”). Under the proposed consent decree filed along with the complaint, the City will implement comprehensive changes to its sewer system intended to bring the City into compliance with the CWA, including capital improvement projects, and changes to its operation and maintenance practices.

The publication of this notice opens a period for public comment on the consent decree. Comments should be addressed to the Assistant Attorney General, Environment and Natural Resources Division, and should refer to United States v. City of Cahokia Heights, D.J. Ref. No. 90-5-1-1-12434. All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the consent decree may be examined and downloaded at this Justice Department website: https://www.justice.gov/enrd/consent-decrees. If you require assistance accessing the consent decree, you may request assistance by email or by mail to the addresses provided above for submitting comments.

Laura Thoms,
Assistant Section Chief, Environmental Enforcement Section, Environment and Natural Resources Division.

[FR Doc. 2024-30056 Filed 12-18-24; 8:45 am]

BILLING CODE 4410-15-P